DEPARTMENT OF HEALTH AND HUMAN SERVICES

Announcement of Cooperative Agreement With the Association of American Medical Colleges To Support Research Integrity Within Academic Societies

AGENCY: Department of Health and Human Services (DHHS). Office of the Secretary, Office of Public Health and Science, Office of Research Integrity.

ACTION: Notice.

SUMMARY: The Office of Research Integrity (ORI), Office of Public Health and Science, DHHS, announces its plan to support a single source cooperative agreement with the Association of American Medical Colleges (AAMC). The purposes of this cooperative agreement is to engage the help of AAMC in encouraging academic societies to take measures to promote research integrity activities within their organizations.

Authority: This Cooperative Agreement is authorized under Section 1707(e)(1) of the Public Health Service Act, as amended.

FOR FURTHER INFORMATION CONTACT: Director, Division of Education and Integrity, Office of Research Integrity, 5515 Security Lane, Suite 700, Rockville, MD 20852. (301) 443-5300.

SUPPLEMENTARY INFORMATION: Academic societies play a crucial role in defining and promoting standards for the responsible conduct of research. However, it has also been suggested that academic societies could be more active in filling this role. To this end, ORI plans to provide a single source cooperative agreement with the AAMC. The purpose of this cooperative agreement is to provide financial resources to the AAMC so that they will award grants to the targeted academic societies to undertake activities aimed at promoting the responsible conduct of research.

The total award to AAMC will amount to approximately $275,000, of which $25,000 will be used for administrative expenses. The remaining $250,000 will be for proposed grants awards, subdivided into two categories. The first category will fund approximately 10 small grants of $5,000 each to support single events or limited activities such as a special meeting, a national conference, or a publication. The second category will fund approximately eight larger grants of $25,000 each. These grants will be used for major program initiatives aimed at promoting the responsible conduct of research.

As part of the May 2000 reorganization of the Office of Research Integrity, the Division of Education and Integrity, ORI, was directed to “develop and implement, in consultation with the Public Health Service agencies, activities and programs for PHS intramural and extramural research to teach the responsible conduct of research, promote research integrity, [and] prevent research misconduct.” The House Appropriation Committee Report for FY 2002 further urged that ORI form “a strong partnership [with] the extramural research community in both the development and implementation of ORI's policies and procedures.” AAMC is ideally and uniquely suited to assist ORI in forming partnerships with the extramural community that will foster the responsible conduct of research, promote research integrity, and thereby prevent research misconduct.

Founded in 1876, AAMC is a leading association organized for the purpose of improving the nation's health through the advancement of medical schools, teaching hospitals, and academic societies. It is comprised of 125 accredited U.S. medical schools, 400 major teaching hospitals and health systems, and 98 academic and professional societies representing over 100,000 members, including the nation's medical students and residents. AAMC has been instrumental in providing a continuing forum for the discussion and exchange of information not only within its membership but also among academic researchers more broadly, from the clinical sciences to basic research. No other academic organization has such a diverse membership and at the same time is so directly associated with the research programs sponsored by DHHS.

AAMC is uniquely qualified to assist ORI in reaching out to academic societies. The AAMC has demonstrated over the years that it can work successfully with the scientific community, which includes academic societies, by (1) providing information through educational conferences, seminars, and publications and (2) advocating with key congressional members and government agencies. Over the years, AAMC has also shown its ability to partner with other organizations, including government entities, such as Centers for Disease Control and Prevention. AAMC is comprised of five components. One of its components is the Council of Academic Societies (CAS). Therefore, it is because of this organizational relationship that the AAMC has a unique capacity to work directly with key academic societies that intersect with the PHS constituent community in a number of distinct ways, e.g., education, research, administration, health care delivery, and policy functions. Contact with key constituent communities will be organized through AAMC's Council of Academic Societies (CAS), one of five constituent components. ORI is confident, based on these important and unique characteristics, that AAMC is the only organization that can effectively bridge the gap between the relevant academic societies and the need to promote research integrity in fields that are directly relevant to the work of PHS.

The ORI will assume substantial programmatic involvement in this project. It will work cooperatively with AAMC in establishing specific goals for this program and participate in the peer review of the grants. It will also assist in announcing of the project and the grant results.

(OMB Catalog of Federal Domestic Assistance: The Catalog of Federal Domestic Assistance number for this Cooperative Agreement is CFDA #93.004)

Dated: June 6, 2002.
Chris B. Pascal,
Director, Office of Research Integrity.

[FR Doc. 02-14739 Filed 6-11-02; 8:45 am]

BILLING CODE 4150-31-M